DEPARTMENT OF HEALTH AND HUMAN SERVICES

National Institutes of Health

Submission for OMB Review; Comment Request; Aggression Prevention Among High-Risk Early Adolescents

Summary: Under the provisions of section 3507(a)(1)(D) of the Paperwork Reduction Act of 1995, the National Institute of Child Health and Human Development (NICHD), the National Institutes of Health (NIH) has submitted to the Office of Management and Budget (OMB) a request for review and approval of the information collection listed below. This proposed information collection was previously published in the Federal Register on April 30, 2003, pages 23151-23152, and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: Aggression Prevention Among High-Risk Early Adolescents Study. Type of Information Collection Request: New collection. Need and Use of Information Collection: This study will assess the efficacy of an in-school, group-mentoring intervention designed to foster academic engagement and prevent aggressive and deviant behavior among early adolescents. The primary objectives of the study are to determine if participation in a weekly group-mentoring program throughout 6th grade significantly impacts adolescents’ attitudes and behaviors regarding school engagement and aggression above and beyond educational materials for youth and parents. The findings will provide valuable information concerning: (1) The efficacy of in-school group-mentoring programs for improving youth attitudes, expectations, intent/motivation, and social competence; and (2) the extent to which such improvement increases academic engagement and decreases aggressive and deviant behavior among high-risk youth. Frequency of Response: 6 times over three years (i.e., fall and spring of 6th, 7th, and 8th grades). Affected Public: For the pilot, incoming 6th graders from an inner city Baltimore middle school and their parents who agree to participate. For the main trial, two successive cohorts of incoming 6th grade students from two inner city Baltimore middle schools and their parents. Additionally, one cohort of 7th and 8th graders will be surveyed in the Fall and Spring of the first school year of the main trial. Type of Respondents: Early adolescents and Parents. The annual reporting burden is as follows: Estimated Number of Respondents: 1280 early adolescents and 800 parents; Estimated Number of Responses per Respondent: 6 for early adolescents who enter study as 6th graders, 2 for youth who enter as 7th or 8th graders, and 4 for parents; Average Burden Hours Per Response: 1.0 for youth and 0.5 for parents; and Estimated Total Annual Burden Hours Requested: 2,887. The annualized cost to respondents is estimated at: $43,305 (based on $15 per hour). There are no Capital Costs to report. There are no Operating or Maintenance Costs to report.

Type of respondents | Estimated number of respondents | Estimated number of responses per respondent | Average burden hours per response | Estimated total annual burden hours requested
6th graders | 800 | 6 | 1.0 | 1,600
7th graders | 160 | 2 | 1.0 | 106.5
8th graders | 320 | 2 | 1.0 | 213.5
Parents | 800 | 4 | .50 | 533.5
Total | 2080 |  |  | 2453.5

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact Dr. Bruce Simons-Morton, Chief, Prevention Research Branch, DESPR, NICHD, NIH, 6100 Executive Blvd., Rm 7B13, MSC 7510, Bethesda, MD 20892-7510; (301) 493-5674; email: mortonb@mail.nih.gov.

Comments Due Date: Comments regarding this information collection are best assured of having their full effect if received within 30-days of the date of this publication.

Dated: August 15, 2003.
April Burton,
NICHD Project Clearance Liaison, National Institutes of Health.

[FR Doc. 03-21699 Filed 8-25-03; 8:45 am]

BILLING CODE 4140-01-P